ENVIRONMENTAL PROTECTION AGENCY

40 CFR Parts 52 and 70

[EPA-R07-OAR-2024-0025; FRL-11676-02-R7]

Air Plan Approval; Nebraska; Revisions to Title 129 of the Nebraska Administrative Code; Nebraska Air Quality Regulations

AGENCY: Environmental Protection Agency (EPA).

ACTION: Final rule.

SUMMARY: The Environmental Protection Agency (EPA) is taking final action to approve a revision to the State Implementation Plan (SIP), Operating Permits Program, and 112(l) Plan for the State of Nebraska. This final action will amend the SIP to revise Nebraska air quality regulations and will add specific definitions from a Nebraska statute. These changes include new and renumbered rules, the consolidation of 43 chapters into 16 chapters, replacement of duplicative language with references to state statute and federal regulation, revisions to reflect changes to state and federal law, and other changes to state regulations. The EPA's approval of this rule revision is in accordance with the requirements of the Clean Air Act (CAA).

DATES: This final rule is effective on September 16, 2024.

ADDRESSES: The EPA has established a docket for this action under Docket ID No. EPA-R07-OAR-2024-0025. All documents in the docket are listed on the https://www.regulations.gov website. Although listed in the index, some information is not publicly available, i.e., Confidential Business Information (CBI) or other information whose disclosure is restricted by statute. Certain other material, such as copyrighted material, is not placed on the internet and will be publicly available only in hard copy form. Publicly available docket materials are available through https://www.regulations.gov or please contact the person identified in the FOR FURTHER INFORMATION CONTACT section for additional information.

FOR FURTHER INFORMATION CONTACT: William Stone, Environmental Protection Agency, Region 7 Office, Air Permitting and Planning Branch, 11201 Renner Boulevard, Lenexa, Kansas 66219; telephone number: (913) 551-7714; email address: stone.william@epa.gov.

SUPPLEMENTARY INFORMATION: Throughout this document “we,” “us,” and “our” refer to EPA.

Table of Contents

I. What is being addressed in this document?

II. Have the requirements for approval of a SIP revision been met?

III. The EPA's Response to Comments

IV. What action is the EPA taking?

V. Incorporation by Reference

VI. Statutory and Executive Order Reviews

I. What is being addressed in this document?

The EPA is amending Nebraska's SIP and Operating Permits Program to include revisions to title 129 of the Nebraska Administrative Code and to add specific definitions from Nebraska Revised Statute 81-1502. The EPA is approving revisions to the Nebraska SIP received on December 2, 2022. The revisions are to Title 129—Nebraska Air Quality Regulations and include specific definitions from Nebraska Revised Statute 81-1502. These changes include new and renumbered rules, the consolidation of 43 chapters into 16 chapters, replacement of duplicative language with references to state statute and federal regulation, approval of specific definitions in state statute, revisions to reflect changes to state and federal law, and other changes to state regulations.

II. Have the requirements for approval of a SIP revision been met?

The State's submission has met the public notice requirements for SIP submissions in accordance with 40 CFR 51.102. The submission also satisfied the completeness criteria of 40 CFR part 51, appendix V. The State provided public notice on this SIP revision from February 23, 2022 to March 29, 2022, and held a public hearing on March 30, 2022 and received no comments. In addition, as explained above and in more detail in the TSD which is part of this docket, the revision meets the substantive SIP requirements of the CAA, including CAA section 110 and implementing regulations.

III. The EPA's Response to Comments

The public comment period on the EPA's proposed rule opened June 3, 2024, the date of its publication in the Federal Register, and closed on July 3, 2024 (89 FR 47504). During this period, EPA received one comment. The comment did not identify a specific issue that was germane to our proposed rule. The comment can be found in the docket for this action.

IV. What action is the EPA taking?

We are amending the Nebraska SIP and Operating Permit Program by approving the State's request to revise Title 129—Nebraska Air Quality Regulations and certain definitions in Nebraska Revised Statute 81-1502.

V. Incorporation by Reference

In this document, the EPA is finalizing regulatory text that includes incorporation by reference. In accordance with requirements of 1 CFR 51.5, the EPA is finalizing the incorporation by reference of the Nebraska rules:

• Chapter 1—General Provisions; Definitions, which provides general provisions and definitions for air quality regulations;

• Chapter 2—Nebraska Air Quality Standards, which lists the ambient air quality standards;

• Chapter 3—Construction Permits, which regulates air construction permitting in Nebraska;

• Chapter 4—Prevention Of Significant Deterioration of Air Quality (PSD) which regulates PSD permitting in Nebraska;

• Chapter 6—Operating Permits which regulates air operating permitting in Nebraska;

• Chapter 7—General Permits which regulates air general permitting in Nebraska;

• Chapter 8—Permits-By-Rule which regulates air permit-by-rule permitting in Nebraska;

• Chapter 9—Permit Revisions; Reopening For Cause which regulates air permit revisions in Nebraska;

• Chapter 10—Permits—Public Participation which regulates public notice requirements for air permitting in Nebraska;

• Chapter 11—Emissions Reporting, When Required which regulates air emissions inventory in Nebraska;

• Chapter 14—Incinerators, Emission Standards which regulates emissions from incinerators in Nebraska;

• Chapter 15—Compliance which regulates compliance with air regulations in Nebraska;

• Chapter 16—Sulfur Compound and Nitrogen Oxides Emissions Standards which regulates emissions of sulfur dioxide and nitrogen oxides in Nebraska;

• Appendix I—Hazardous Air Pollutants Sorted by CAS Number which lists the hazardous air pollutants;

• Appendix II—Air Pollution Emergency Episodes which explains Nebraska's emergency episode procedures; and

• Nebraska Revised Statute 81-1502—Terms, Defined which contains definitions for Nebraska's air quality regulations.

The state effective date of these rules is September 28, 2022. The state effective date of Nebraska Revised Statute 81-1502 is March 21, 2019. The EPA has made, and will continue to make, these materials generally available through https://www.regulations.gov and at the EPA Region 7 Office (please contact the person identified in the FOR FURTHER INFORMATION CONTACT section of this preamble for more information).

Also, in this document, as described in the amendments to 40 CFR part 52 set forth below, EPA is removing provisions of the EPA-Approved Nebraska Regulations and Statutes from the Nebraska State Implementation Plan, which is incorporated by reference in accordance with the requirements of 1 CFR part 51.

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The Department of Environment and Energy did not evaluate environmental justice considerations as part of its SIP submittal; the CAA and applicable implementing regulations neither prohibit nor require such an evaluation. EPA did not perform an EJ analysis and did not consider EJ in this action. Consideration of EJ is not required as part of this action, and there is no information in the record inconsistent with the stated goal of E.O. 12898 of achieving environmental justice for people of color, low-income populations, and Indigenous peoples.

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by October 15, 2024. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects

40 CFR Part 52

Environmental protection, Air pollution control, Incorporation by reference, Intergovernmental relations, Particulate matter, Reporting and recordkeeping requirements, Volatile organic compounds.

40 CFR Part 70

Environmental protection, Administrative practice and procedure, Air pollution control, Intergovernmental relations, Operating permits, Reporting and recordkeeping requirements.

Dated: August 5, 2024.
Meghan A. McCollister,
Regional Administrator, Region 7.

For the reasons stated in the preamble, the EPA amends 40 CFR parts 52 and 70 as set forth below:

PART 52—APPROVAL AND PROMULGATION OF IMPLEMENTATION PLANS

1. The authority citation for part 52 continues to read as follows:

Authority: 42 U.S.C. 7401 et seq.

Subpart CC—Nebraska

2. In § 52.1420, in the table in paragraph (c):

a. Revise the center heading “Department of Environmental Quality” to read “Department of Environment and Energy”.

b. Revise the entries “129-1”, “129-2”, “129-3”, and “129-4”;

c. Remove the entry “129-5”;

d. Revise the entries “129-6”, “129-7”, “129-8”, “129-9”, “129-10”, and “129-11”;

e. Remove the entries “129-12” and “129-13”;

f. Revise the entries “129-14”, “129-15”, and “129-16”;

g. Remove the entries “129-17”, “129-19”, “129-20”, “129-21”, “129-22”, “129-24”, “129-25”, “129-30”, “129-32”, “129-33”, “129-34”, “129-35”, “129-36”, “129-37”, “129-38”, “129-41”, “129-42”, “129-43”, and “129-44”;

h. Revise the entries “Appendix I” and “Appendix II”; and

i. Add the center heading “Nebraska Revised Statute 81-1502 Terms Defined” and the entry “1502” after the entry “115-3”.

The revisions and additions read as follows:

§ 52.1420 Identification of plan.

* * * * *

(c) * * *

EPA-Approved Nebraska Regulations
Nebraska citation | Title | State effective date | EPA approval date | Explanation
STATE OF NEBRASKA
Department of Environment and Energy
Title 129—Nebraska Air Quality Regulations
129-1 | General Provisions; Definitions | 9/28/2022 | 8/16/2024, [insert Federal Register citation]
129-2 | Nebraska Air Quality Standards | 9/28/2022 | 8/16/2024, [insert Federal Register citation] | Section 002 total reduced sulfur (TRS) is not approved into the SIP.
129-3 | Construction Permits | 9/28/2022 | 8/16/2024, [insert Federal Register citation]
129-4 | Prevention of Significant Deterioration (PSD) | 9/28/2022 | 8/16/2024, [insert Federal Register citation]
129-6 | Operating Permits | 9/28/2022 | 8/16/2024, [insert Federal Register citation]
129-7 | General Permits | 9/28/2022 | 8/16/2024, [insert Federal Register citation]
129-8 | Permits-By-Rule | 9/28/2022 | 8/16/2024, [insert Federal Register citation]
129-9 | Permit Revisions; Reopening For Cause | 9/28/2022 | 8/16/2024, [insert Federal Register citation]
129-10 | Permits—Public Participation | 9/28/2022 | 8/16/2024, [insert Federal Register citation]
129-11 | Emissions Reporting, When Required | 9/28/2022 | 8/16/2024, [insert Federal Register citation]
129-14 | Incinerators, Emission Standards | 9/28/2022 | 8/16/2024, [insert Federal Register citation]
129-15 | Compliance | 9/28/2022 | 8/16/2024, [insert Federal Register citation]
129-16 | Sulfur Compound and Nitrogen Dioxides Emissions Standards | 9/28/2022 | 8/16/2024, [insert Federal Register citation]
Appendix I | Hazardous Air Pollutants Sorted by CAS Number | 9/28/2022 | 8/16/2024, [insert Federal Register citation]
Appendix II | Air Pollution Emergency Episodes | 9/28/2022 | 8/16/2024, [insert Federal Register citation]
* * * * * * *
Nebraska Revised Statute 81-1502 Terms Defined
1502 | Terms Defined | 3/21/2019 | 8/16/2024, [insert Federal Register citation] | The following paragraphs of Nebraska Revised Statute 81-1502 are approved into the SIP: (2) Air pollution; (3) Chairperson; and (10) Person.
* * * * * * *

* * * * *

PART 70—STATE OPERATING PERMIT PROGRAMS

3. The authority citation for part 70 continues to read as follows:

Authority: 42 U.S.C. 7401, et seq.

4. Appendix A to part 70 is amended by adding paragraph (r) under “Nebraska; City of Omaha; Lincoln-Lancaster County Health Department” to read as follows:

Appendix A to Part 70—Approval Status of State and Local Operating Permits Programs

* * * * *

Nebraska; City of Omaha; Lincoln-Lancaster County Health Department

* * * * *

(r) The Nebraska Department of Environment and Energy submitted for program approval revisions to the Nebraska Administrative Code, title 129, chapters 1, 6, 7, 9, 10, 11, and appendix I on December 2, 2022. Title 129 Chapter 8 “Operating Permit Content” has been renumbered and renamed Chapter 6 “Operating Permits” and Chapter 8 is no longer part 70 approved. Appendix III has been repealed and is no longer part 70 approved. The state effective date is September 28, 2022. This revision is effective September 16, 2024.

* * * * *

[FR Doc. 2024-17672 Filed 8-15-24; 8:45 am]

BILLING CODE 6560-50-P